DEPARTMENT OF ENERGY

[Number DE-PS07-02ID14280]

Steel Industries of the Future

AGENCY: Idaho Operations Office, DOE.

ACTION: Notice of availability of solicitation for awards of financial assistance.

SUMMARY: The U.S. Department of Energy (DOE), Idaho Operations Office (ID) is seeking applications for cost shared research and development (R&D) processes which will enable the commercial deployment of several emerging ironmaking technologies in the U.S.A. within the next six years. The goal is to provide the domestic steel with additional alternative quality ironmaking capacity that is less dependent on the availability of coke. This solicitation targets ironmaking processes that displace coke with coal, natural gas, and other reductants/fuels.

DATES: The issuance date of Solicitation Number DE-PS07-02ID14280 will be on or about February 4, 2002. The deadline for receipt of applications is April 15, 2002, at 3 p.m. MST.

ADDRESSES: The solicitation will be available in its full text on the Internet by going to the DOE's Industry Interactive Procurement System (IIPS) at the following URL address: http://e-center.doe.gov. This will provide the medium for disseminating solicitations and amendments to solicitations, receiving financial assistance applications and evaluating applications in a paperless environment. Completed applications are required to be submitted via IIPS. An IIPS “User Guide for Contractors” can be obtained on the IIPS Homepage and then click on the “Help” button. Questions regarding the operation of IIPS may be e-mailed to the IIPS Help Desk at IIPS_Motor Carrier Fuel Cost Equity Act;HelpDesk@e-center.doe.gov.

FOR FURTHER INFORMATION CONTACT: Trudy Harmel, Contract Specialist at harmelta@id.doe.gov, or Dallas L. Hoffer, Contracting Officer at hofferdl@id.doe.gov.

SUPPLEMENTARY INFORMATION: The Steel Technology Roadmap can be found at http://www.steel.org/mt/roadmap/roadmap.htm. Approximately $3,000,000 in federal funds is expected to be available to fund the first year of selected research projects. Subject to the availability of funds, it is anticipated that equivalent funds should be available for the subsequent years. DOE anticipates making 2 to 3 cooperative agreement awards, each with a duration of three years or less. A minimum 50% non-federal cost share is required for research and development projects over the life of the project. First year cost share can be as low as 30% if subsequent years have sufficient cost share so that non-federal share totals at least 50%. Multi-partner collaborations among steel companies, equipment suppliers and/or engineering firms is mandatory. The statutory authority for the program is the Federal Non-Nuclear Energy Research and Development Act of 1974 (Pub. L. 93-577).

The Catalog of Federal Domestic Assistance (CFDA) Number for this program is 81.086.

Issued in Idaho Falls on February 4, 2002.
R.J. Hoyles,
Director, Procurement Services Division.

[FR Doc. 02-3191 Filed 2-8-02; 8:45 am]

BILLING CODE 6450-01-P